DEPARTMENT OF ENERGY

Federal Energy Regulatory Commission

Combined Notice of Filings #1

Take notice that the Commission received the following exempt wholesale generator filings:

Docket Numbers: EG20-103-000.

Applicants: Mechanicsville Solar, LLC.

Description: Self-Certification of EG of Mechanicsville Solar, LLC.

Filed Date: 3/18/20.

Accession Number: 20200318-5164.

Comments Due: 5 p.m. ET 4/8/20.

Docket Numbers: EG20-104-000.

Applicants: Albemarle Beach Solar, LLC.

Description: Self-Certification of EG of Albemarle Beach Solar, LLC.

Filed Date: 3/18/20.

Accession Number: 20200318-5169.

Comments Due: 5 p.m. ET 4/8/20.

Take notice that the Commission received the following electric rate filings:

Docket Numbers: ER18-1314-003.

Applicants: PJM Interconnection, L.L.C.

Description: Compliance filing: Compliance in EL16-49 and EL18-178, Request for Waiver, Extended Comment Period to be effective 12/31/9998.

Filed Date: 3/18/20.

Accession Number: 20200318-5149.

Comments Due: 5 p.m. ET 4/22/20.

Docket Numbers: ER20-1073-000.

Applicants: SR Terrell, LLC.

Description: Report Filing: Supplement to Market-Based Rate Application to be effective N/A.

Filed Date: 3/13/20.

Accession Number: 20200313-5079.

Comments Due: 5 p.m. ET 4/3/20.

Docket Numbers: ER20-1343-000.

Applicants: Midcontinent Independent System Operator, Inc.

Description: § 205(d) Rate Filing: 2020-03-19_SA 3446 GridLiance-EEI GIA (Unit 4) to be effective 2/28/2020.

Filed Date: 3/19/20.

Accession Number: 20200319-5049.

Comments Due: 5 p.m. ET 4/9/20.

Docket Numbers: ER20-1344-000.

Applicants: Midcontinent Independent System Operator, Inc.

Description: § 205(d) Rate Filing: 2020-03-19_SA 3450 GridLiance-MEP GIA to be effective 2/28/2020.

Filed Date: 3/19/20.

Accession Number: 20200319-5014.

Comments Due: 5 p.m. ET 4/9/20.

Docket Numbers: ER20-1345-000.

Applicants: Midcontinent Independent System Operator, Inc.

Description: § 205(d) Rate Filing: 2020-03-19_SA 3449 GridLiance-IPGC GIA to be effective 2/28/2020.

Filed Date: 3/19/20.

Accession Number: 20200319-5032.

Comments Due: 5 p.m. ET 4/9/20.

Docket Numbers: ER20-1346-000.

Applicants: Midcontinent Independent System Operator, Inc.

Description: § 205(d) Rate Filing: 2020-03-19_SA 3447 GridLiance-EEI GIA (Unit 5) to be effective 2/28/2020.

Filed Date: 3/19/20.

Accession Number: 20200319-5050.

Comments Due: 5 p.m. ET 4/9/20.

Docket Numbers: ER20-1347-000.

Applicants: Midcontinent Independent System Operator, Inc.

Description: § 205(d) Rate Filing: 2020-03-19_SA 3448 GridLiance-EEI GIA (Unit 6) to be effective 2/28/2020.

Filed Date: 3/19/20.

Accession Number: 20200319-5021.

Comments Due: 5 p.m. ET 4/9/20.

Docket Numbers: ER20-1348-000.

Applicants: AEP Texas Inc.

Description: § 205(d) Rate Filing: AEPTX-King Creek Wind Farm Interconnection Agreement to be effective 3/10/2020.

Filed Date: 3/19/20.

Accession Number: 20200319-5072.

Comments Due: 5 p.m. ET 4/9/20.

Docket Numbers: ER20-1349-000.

Applicants: CNR Energy LLC.

Description: Notice of Cancellation of Market-Based Rate Tariff of CNR Energy LLC.

Filed Date: 3/19/20.

Accession Number: 20200319-5103.

Comments Due: 5 p.m. ET 4/9/20.

Docket Numbers: ER20-1350-000.

Applicants: Orange and Rockland Utilities, Inc.

Description: § 205(d) Rate Filing: Attachment J—Municipal Underground Surcharge Revision to be effective 4/1/2020.

Filed Date: 3/19/20.

Accession Number: 20200319-5107.

Comments Due: 5 p.m. ET 4/9/20.

Take notice that the Commission received the following electric reliability filings:

Docket Numbers: RD20-5-000.

Applicants: North American Electric Reliability Corp.

Description: Supplement to March 11, 2020 Joint Petition of the North American Electric Reliability Corporation and Texas Reliability Entity, Inc. for Approval of Proposed Regional Reliability Standard BAL-001-TRE-2 ? Primary.

Filed Date: 3/17/20.

Accession Number: 20200317-5209.

Comments Due: 5 p.m. ET 4/16/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 19, 2020.
Nathaniel J. Davis, Sr.,
Deputy Secretary.

[FR Doc. 2020-06229 Filed 3-24-20; 8:45 am]

BILLING CODE 6717-01-P